ENVIRONMENTAL PROTECTION AGENCY

[FRL-7213-8]

Proposed Administrative Settlement Under the Comprehensive Environmental Response, Compensation and Liability Act; Robesonia Mercury Spill Site

AGENCY: Environmental Protection Agency.

ACTION: Notice; request for public comment.

SUMMARY: In accordance with section 122(i)(1) of CERCLA, 42 U.S.C. 9622(i)(1), notice is hereby given of a proposed administrative settlement concerning the Robesonia Mercury Spill Site, Robesonia, Berks County, Pennsylvania. The administrative settlement was signed by the United States Environmental Protection Agency, Region III's Acting Regional Administrator on May 6, 2002, and is subject to review by the public pursuant to this document.

The Environmental Protection Agency is proposing to enter into a settlement pursuant to section 122(h) of the Comprehensive Environmental Response, Compensation, and Liability Act of 1980, as amended, (CERCLA), 42 U.S.C. 9622(h). The proposed settlement resolves EPA's claim for past response costs under section 107 of CERCLA, 42 U.S.C. 9607 against the UGI Corporation for response costs incurred at the Robesonia Mercury Spill Site, Robesonia, Berks County, Pennsylvania. The proposed settlement requires UGI Corporation to pay $13,499.42 to the EPA Hazardous Substance Fund.

The UGI Corporation, as the Settling Party, has executed binding certifications of its consent to participate in this settlement. UGI Corporation has agreed to pay $13, 499.42 subject to the contingency that the Environmental Protection Agency may elect not to complete the settlement based on matters brought to its attention during the public comment period established by this document.

For thirty (30) days following the date of publication of this notice, EPA will receive written comments relating to the proposed settlement. EPA will consider all comments received and may withdraw or withhold consent to the proposed settlement if such comments disclose facts or considerations which indicate the proposed settlement is inappropriate, improper, or inadequate. EPA's response to any written comments received will be available for public inspection at the U.S. Environmental Protection Agency, Region III, 1650 Arch Street, Philadelphia, PA 19103.

DATES: Comments must be submitted on or before June 20, 2002.

ADDRESSES: Comments should be addressed to the Docket Clerk, United States Environmental Protection Agency, Region III, 1650 Arch Street, Philadelphia, Pennsylvania, 19103, and should reference Robesonia Mercury Spill Site, Robesonia, Berks County, Pennsylvania, U.S. EPA Docket No. CERCLA 03-2002-0082. The proposed settlement agreement is available for public inspection at the United States Environmental Protection Agency, Region III, 1650 Arch Street, Philadelphia, Pennsylvania, 19103. A copy of the proposed settlement agreement can be obtained from Suzanne Canning, Regional Docket Clerk (3RCOO) Environmental Protection Agency, Region III, 1650 Arch Street, Philadelphia, Pennsylvania, 19103, telephone number (215) 814-2476.

FOR FURTHER INFORMATION CONTACT: Charles Hayden, Senior Assistant Regional Counsel, United States Environmental Protection Agency, Office of Enforcement, Compliance, and Environmental Justice (3EC00) 1650 Arch Street, Philadelphia, Pennsylvania, 19103, telephone number (215) 814-2668.

James W. Newson,
Acting Regional Administrator, Region III.

[FR Doc. 02-12710 Filed 5-20-02; 8:45 am]

BILLING CODE 6560-50-P